SMALL BUSINESS ADMINISTRATION

SBA Council on Underserved Communities Meeting

AGENCY: U.S. Small Business Administration (SBA).

ACTION: Notice of Federal advisory committee meeting.

SUMMARY: The SBA is issuing this notice to announce the location, date, time, and agenda for the first meeting of the SBA Council on Underserved Communities. The meeting will be open to the public.

DATES: The meeting will be held on Thursday, August 4, 2011 from 9:30 a.m. to 12:30 p.m. Eastern Standard Time.

ADDRESSES: The meeting will be held at the U.S. Small Business Administration: 409 3rd St SW., Eisenhower Conference Room, Second Floor, Washington, DC 20024.

SUPPLEMENTARY INFORMATION: Pursuant to section 10(a)(2) of the Federal Advisory Committee Act (5 U.S.C., Appendix 2), SBA announces the meeting of the SBA Council on Underserved Communities (the “Council”). The Council is tasked with providing advice, ideas and opinions on SBA programs and services and issues of interest to small businesses in underserved communities. For more information, please visit http://www.sba.gov/content/council-underserved-communities-cuc.

The purpose of the meeting is to provide the Council with information on SBA's efforts to support small businesses in underserved communities, as well as provide an opportunity for the Council to discuss its goals for the coming months. SBA Deputy Administrator Marie Johns will make a presentation to the Council. The Council will provide insights on based on information learned in what they've heard from their communities as well as discuss areas of interest for further research and recommendation development.

FOR FURTHER INFORMATION CONTACT: The meeting is open to the public however advance notice of attendance is requested. Anyone wishing to attend and/or make a presentation to the SBA Council on Underserved Communities must contact Chrystal Christian by August 2nd, 2011, by fax or email in order to be placed on the agenda. Chrystal Christian, SBA, Office of the Administrator, 409 Third Street, SW., Washington, DC 20416, Chrystal.Christian@sba.gov, phone 202-205-6605, fax 202-292-3865.

Additionally, if you need accommodations because of a disability or require additional information, please contact Chrystal Christian, SBA, Office of the Administrator, 409 Third Street, SW., Washington, DC 20416, 202-205-6605 or Chrystal.Christian@sba.gov.

Dated: July 13, 2011.
Dan Jones,
SBA Committee Management Officer.

[FR Doc. 2011-18209 Filed 7-18-11; 8:45 am]

BILLING CODE 8025-01-P